DEPARTMENT OF HEALTH AND HUMAN SERVICES

Office of Inspector General

Solicitation of Information and Recommendations for Revising the Compliance Program Guidance for Nursing Facilities

AGENCY: Office of Inspector General (OIG), HHS.

ACTION: Notice.

SUMMARY: This Federal Register notice seeks the input and recommendations of interested parties as OIG revises the compliance program guidance (CPG) for nursing facilities, especially those serving Medicare, Medicaid, and other Federal health care program beneficiaries. The nursing home industry has experienced a number of changes since OIG first published a CPG in this area (65 FR 14289; March 16, 2000). Additionally, the subsequent years of enforcement and compliance activity in the nursing home industry has allowed OIG to address more fully the various risk areas in nursing home compliance. In evaluating the contents of the nursing facility CPG, OIG is soliciting comments, recommendations, and other suggestions from concerned parties and organizations on how best to revise the nursing facility CPG to address relevant compliance issues. Specifically, OIG seeks comments addressing any changes to existing risk areas and introducing any new risk areas.

DATES: To assure consideration, comments must be delivered to the address provided below by no later than 5 p.m. on February 25, 2008.

ADDRESSES: In commenting, please refer to file code OIG-126-N. Because of staff and resource limitations, we cannot accept comments by facsimile (FAX) transmission.

You may submit comments in one of three ways (no duplicates, please):

1. Electronically. You may submit electronic comments on specific recommendations and suggestions through the Federal eRulemaking Portal at http://www.regulations.gov. (Attachments should be in Microsoft Word, if possible.)

2. By regular, express, or overnight mail. You may send written comments to the following address: Office of Inspector General, Department of Health and Human Services, Attention: OIG-126-N, Room 5246, Cohen Building, 330 Independence Avenue, SW., Washington, DC 20201. Please allow sufficient time for mailed comments to be received before the close of the comment period.

3. By hand or courier. If you prefer, you may deliver, by hand or courier, your written comments before the close period to Office of Inspector General, Department of Health and Human Services, Cohen Building, 330 Independence Avenue, SW., Washington, DC 20201. Because access to the interior of the Cohen Building is not readily available to persons without Federal Government identification, commenters are encouraged to schedule their delivery with one of our staff members at (202) 358-3141.

Inspection of Public Comments: All comments received before the end of the comment period are available for viewing by the public. All comments will be posted on http://www.regulations.gov as soon as possible after they have been received. Comments received timely will also be available for public inspection as they are received at Office of Inspector General, Department of Health and Human Services, Cohen Building, 330 Independence Avenue, SW., Washington, DC 20201, Monday through Friday of each week from 8:30 a.m. to 4 p.m. To schedule an appointment to view public comments, phone (202) 619-0089.

FOR FURTHER INFORMATION CONTACT: Joel Schaer, OIG Regulations Officer, (202) 619-0089; Amanda Walker, Office of Counsel to the Inspector General, (202) 619-0335; or Catherine Hess, Office of Counsel to the Inspector General, (202) 619-1306.

SUPPLEMENTARY INFORMATION: The development of CPGs is a major initiative of OIG in its effort to engage the private health care industry in addressing and combating fraud and abuse. Over the past several years, OIG has developed and issued CPGs directed at various segments of the health care industry. These guidances are designed to provide clear direction and assistance to specific sections of the health care industry that are interested in addressing compliance with Federal health care program requirements.

The CPGs set forth OIG's suggestions on how providers can most effectively establish internal controls and implement monitoring procedures to identify, correct, and prevent potentially fraudulent conduct. The suggestions contained in the CPGs are not mandatory for providers, nor do they represent an exclusive discussion of the advisable elements of a compliance program.

Through this Federal Register notice, OIG is seeking input from interested parties as OIG considers revising the CPG for the nursing home industry. OIG will consider all comments, recommendations, and suggestions received within the time frame indicated above. OIG would appreciate specific comments, recommendations, and suggestions on risk areas for the nursing home industry, such as the submission of false claims, as well as quality of care concerns, kickbacks, and accurate reporting of data to Medicare and Medicaid. Detailed justifications and empirical data supporting any suggestions would be appreciated.

We request that any comments, recommendations, or suggestions be submitted in a format that addresses the topics outlined above in a concise manner rather than in the form of a comprehensive draft guidance that mirrors previous CPGs.

Dated: January 16, 2008.
Daniel R. Levinson,
Inspector General.

[FR Doc. E8-1213 Filed 1-23-08; 8:45 am]

BILLING CODE 4150-04-P